DEPARTMENT OF TRANSPORTATION

Federal Highway Administration

Request for Nominations for the Working Group on Covered Resources to the Federal Highway Administration

AGENCY: Federal Highway Administration (FHWA), U.S. Department of Transportation (DOT).

ACTION: Notice to solicit members for the Working Group on Covered Resources.

SUMMARY: The FHWA announces a request for nominations to the Working Group on Covered Resources (Working Group). The Working Group members will be appointed for a term of 2 years. The Working Group will conduct a study on access to covered resources for infrastructure projects. In carrying out the study, the Working Group shall analyze the use of covered resources in transportation projects funded with Federal dollars; how the proximity of covered resources to such projects affects the cost and environmental impact of those projects; whether and how State, Tribal, and local transportation and planning agencies consider covered resources when developing transportation projects; and any challenges for transportation project sponsors regarding access and proximity to covered resources. The Working Group shall submit to the Secretary of Transportation the findings of its study and any recommendations to preserve access to and reduce the costs and environmental impacts of covered resources in infrastructure projects.

DATES: The deadline for nominations for the Working Group membership is March 11, 2024.

ADDRESSES: All nomination materials should be emailed to Richard.Duval@dot.gov or mailed attention to Designated Federal Officer Mr. Richard Duval c/o Mrs. Gina Ahlstrom, Federal Highway Administration, Office of Infrastructure, Room E75-332, 1200 New Jersey Avenue SE, Washington, DC 20590. Any person needing accessibility accommodations should contact Richard Duval at (202) 515-1030.

FOR FURTHER INFORMATION CONTACT: Mr. Richard B. Duval, Office of Infrastructure, 1200 New Jersey Avenue SE, Washington, DC 20590, (202) 515-1030 or via email at Richard.Duval@dot.gov; or Ms. Alissa Dolan, Office of the Chief Counsel, 1200 New Jersey Avenue SE, Washington, DC 20590, (202) 631-3393 or via email at Alissa.Dolan@dot.gov.

SUPPLEMENTARY INFORMATION: Section 11526 of the Bipartisan Infrastructure Law (BIL), enacted as the Infrastructure Investment and Jobs Act (Pub. L. 117-58), requires the establishment of a “Working Group on Covered Resources.” The term “covered resource” means a common variety material used in transportation infrastructure construction and maintenance, including stone, sand, and gravel. The Working Group will conduct a study on access to covered resources for infrastructure projects. Pursuant to BIL section 11526(d), in carrying out the study, the Working Group shall analyze the use of covered resources in transportation projects funded with Federal dollars; how the proximity of covered resources to such projects affects the cost and environmental impact of those projects; whether and how State, Tribal, and local transportation and planning agencies consider covered resources when developing transportation projects; and any challenges for transportation project sponsors regarding access and proximity to covered resources.

In conducting this study, BIL section 11526(e) requires the Working Group to consult, as appropriate, with chief executive officers of States; State, Tribal, and local transportation and planning agencies; other relevant State, Tribal, and local agencies, including State agencies associated with covered resources protection; members of the public with industry experience with respect to covered resources; other Federal entities that provide funding for transportation projects; and any other stakeholder the Working Group determines appropriate.

In accordance with BIL section 11526(f)(1), not later than 2 years after the Working Group is established, it shall submit to the Secretary the findings of its study, including a summary of comments received during the consultation process required by section 11526(e), and any recommendations to preserve access to and reduce the costs and environmental impacts of covered resources in infrastructure projects. The Secretary will then submit to Congress a summary of the findings of the Working Group's report and any recommendations, as appropriate.

In accordance with section 9 of the Federal Advisory Committee Act (FACA), and as directed by BIL section 11526(b), the Secretary has established the Working Group on Covered Resources. This document gives notice of the member nomination process to potential participants and affords them the opportunity to request representation on the Working Group. The procedure for requesting such representation is set out below. FHWA is aware that there are many more potential organizations and participants than there are membership slots on the Working Group. Organizations and participants should be prepared to support their request for representation on the Working Group.

Members serve at the pleasure of the Secretary. Members will be appointed for a 2-year term with the potential for reappointment. The Secretary may extend appointments and may appoint replacements for members who have resigned outside of a stated term, as necessary. Members may continue to serve until their replacements have been appointed. The Working Group shall terminate 180 days after the date on which the Secretary receives the report required under BIL section 11526(f)(1).

FHWA is hereby soliciting nominations for members of the Working Group. Members will have knowledge and expertise in the production and transportation of covered resources. As prescribed by BIL Section 11526(c)(2), the Secretary will appoint not less than one representative of each of the following:

(1) State departments of transportation.

(2) State agencies associated with covered resources protection.

(3) State planning and geologic survey and mapping agencies.

(4) Commercial motor vehicle operators, including small business operators and operators who transport covered resources.

(5) Covered resources producers.

(6) Construction contractors.

(7) Labor organizations.

(8) Metropolitan planning organizations and regional planning organizations.

(9) Indian Tribes, including Tribal elected leadership or Tribal transportation officials.

(10) Any other stakeholders that the Secretary determines appropriate.

Process and Deadline for Submitting Nominations: Qualified individuals can self-nominate or be nominated by any individual or organization. To be considered for the Working Group, nominators should submit the following information:

(1) Name, title, and relevant contact information (including phone, and email address) of the nominee.

(2) A letter of support containing a brief description of why the nominee should be considered for membership.

(3) A short biography of the nominee, including any relevant professional and academic credentials and any prior experience with covered resources.

(4) For nominees seeking to serve in their individual capacity (and not seeking appointment to represent the interests of a nongovernmental entity, a recognizable group of persons or nongovernmental entities such as an industry sector or labor union, or State or local governments), an affirmative statement that the nominee is not a federally registered lobbyist, and that the nominee understands that if appointed, the nominee will not be allowed to continue to serve as a Working Group member if the nominee becomes a federally registered lobbyist.

(5) An affirmative statement from the nominee of their availability and willingness to serve on the Working Group. Initially, board members will be expected to participate in quarterly meetings and are expected to attend at least three-quarters of all meetings during their 2-year term. Additional meetings may be required.

(6) An affirmative statement from the nominee of their willingness and ability to serve as the chairperson for the Working Group, which will require additional time commitment beyond simple membership. Chairperson duties are described in DOT Order 1120.3 D, “Committee Management Policy and Procedures.”

Please do not send company, trade association, or organization brochures, or any other information. Materials submitted should total three pages or less, not including any letter(s) of support. Should more information be needed, DOT staff will contact the nominee, obtain information from the nominee's past affiliations, or obtain information from publicly available sources, such as the internet.

It is important to recognize that interested parties who are not selected for membership on the Working Group can make valuable contributions to the work of the Working Group in several ways. Interested persons shall be permitted to attend, appear before, or file statements with any advisory committee, subject to such reasonable rules or regulations as the FHWA Administrator may prescribe.

Any member of the public is welcome to attend Working Group meetings, and, as provided in FACA, speak to the Working Group. Time will be set aside during each meeting for this purpose, consistent with the Working Group's need for sufficient time to complete its deliberations.

All nomination materials should be emailed to Richard.Duval@dot.gov or mailed attention to Mr. Richard Duvalc/o Mrs. Gina Ahlstrom, Federal Highway Administration, Office of Infrastructure, Room E75-332, 1200 New Jersey Avenue SE, Washington, DC 20590. Any person needing accessibility accommodations should contact Richard Duval at (202) 515-1030. Nominations must be received by March 11, 2024. Nominees selected for appointment to the Working Group will be notified by return email and by a letter of appointment.

A selection team comprising representatives from DOT offices and member(s) of the U.S. Department of the Interior U.S. Geological Survey will review the nomination packages. The selection team will make recommendations regarding membership to the Secretary through the FHWA Administrator based on evaluation criteria including: (1) professional or academic expertise, experience, and knowledge; (2) stakeholder representation; and (3) skills working on committees and advisory panels. The FHWA Administrator will submit a list of recommended candidates to the Secretary for review and selection of Working Group members.

Nominations are open to all individuals without regard to race, color, religion, sex, national origin, age, mental or physical handicap, marital status, or sexual orientation. To ensure that recommendations to the Secretary consider the needs of the diverse groups served by DOT, membership shall include, to the extent practicable, individuals with demonstrated ability to represent disadvantaged and under-represented groups.

Shailen P. Bhatt,
Administrator, Federal Highway Administration.

[FR Doc. 2024-00251 Filed 1-8-24; 8:45 am]

BILLING CODE 4910-22-P